DEPARTMENT OF LABOR

Employment and Training Administration

Proposed Collection of Information for the Job Corps Process Study; New Collection

AGENCY: Employment and Training Administration (ETA), Labor.

ACTION: Notice.

SUMMARY: The Department of Labor (Department), as part of its continuing effort to reduce paperwork and respondent burden, conducts a preclearance consultation program to provide the general public and Federal agencies with an opportunity to comment on proposed and/or continuing collections of information in accordance with the Paperwork Reduction Act of 1995 (PRA95) [44 U.S.C. 3506(c)(2)(A)]. This program helps to ensure that requested data can be provided in the desired format, reporting burden (time and financial resources) is minimized, collection instruments are clearly understood, and the impact of collection requirements on respondents can be properly assessed.

Currently, ETA is soliciting comments on a new information collection for the Job Corps Process Study (Process Study). A copy of the proposed information collection request can be obtained by contacting the office listed below in the addresses section of this notice.

DATES: Written comments must be submitted to the office listed in the addresses section below on or before March 19, 2012.

ADDRESSES: Submit written comments to Dan Ryan, Employment and Training Administration, 200 Constitution Avenue NW., Room N-5641, Washington, DC 20210. Telephone number: (202) 693-3649 (this is not a toll-free number). Fax number: (202) 693-2766. Email: ryan.dan@dol.gov.

SUPPLEMENTARY INFORMATION:

I. Background

Job Corps is a comprehensive program designed to assist eligible disadvantaged youth aged 16 to 24 through intensive education and training services. A total of 125 primarily residential Job Corps centers operate in 48 states, the District of Columbia, and Puerto Rico. Job Corps provides academic instruction to improve students' reading and math abilities and prepare students for obtaining General Educational Development certificates or high school diplomas, career technical training in over 100 programs, and development of social skills. In addition, Job Corps provides dormitory-style housing, meals, medical care, and counseling. Finally, the program assists its enrollees with career transitions through placement in jobs, higher education, and the military. Over the course of its 45 years of operation, Job Corps has served almost 3 million youth.

In the fall of 2010, ETA contracted with IMPAQ International, LLC (with subcontracts to the Battelle Memorial Institute and Decision Information Resources, Inc.—henceforth, the IMPAQ team) to conduct this Process Study to address the following broad questions:

• What center practices appear to be associated with center performance or particular dimensions of performance and what is the nature of such associations?

• How do interactions among center practices and characteristics mediate these associations? Put differently, do some strategies or practices work especially well (or especially badly) for certain kinds of centers?

ETA is requesting clearance for the IMPAQ team to carry out two principal research activities, integral to the Process Study: (1) Site visits to 16 Job Corps centers with interviews with senior center and operator management, instructors, staff, and partners and focus groups with students and (2) a Web-based survey of all Job Corps center directors.

The centers for visits will be selected in a purposive fashion to represent diversity of performance, using established Job Corps performance metrics on student outcomes both during and after program enrollment, adjusted for participant and local labor market characteristics, supplemented by additional measures of job placement and student satisfaction. Practices identified during the visits will also be examined through the survey. The ultimate use of the information collection is to associate practices with performance outcomes, an analysis which should be useful for programmatic improvement.

II. Review Focus

The Department is particularly interested in comments, which:

• Evaluate whether the proposed collection of information is necessary for the proper performance of the functions of the agency, including whether the information will have practical utility;

• Evaluate the accuracy of the agency's estimate of the burden of the proposed collection of information, including the validity of the methodology and assumptions used;

• Enhance the quality, utility, and clarity of the information to be collected; and

• Minimize the burden of the collection of information on those who are to respond, including through the use of appropriate automated, electronic, mechanical, or other technological collection techniques or other forms of information technology, e.g., permitting electronic submissions of responses.

III. Current Actions

Agency: Employment and Training Administration.

Type of Review: New collection.

Title: Job Corps Process Study.

OMB Number: 1205-0NEW.

Affected Public: Job Corps center management and staff; Job Corps students; Job Corps partner organizations' staff; and Job Corps center operators' staff.

Total Respondents: 637.

Frequency: Twice for directors of the 16 visited centers and once for all other respondents.

Total Responses: 653.

Average Time per Response: 85 minutes.¹

¹ This is the average across all types of information collection activities.

Estimated Total Burden Hours: 927.

Total Other Burden Cost for Respondents: $0.

Data collection activity (interview unless noted as survey) | Total burden hours for position type across all centers Concerned
Center Directors | 32
Human Resources Managers | 8
Academic Instruction Managers | 24
Career Technical Training (CTT) Managers | 24
Work-Based Learning Coordinators | 16
Career Preparation Period Managers | 16
Counseling Managers | 24
Peer Leadership Coordinators | 8
Social Development Managers | 16
Center Safety Officers | 16
Academic Instructors | 48
CTT Instructors | 48
Residential Advisors | 48
Senior Administration Staff, Including from Operators | 32
Business and Community Liaisons | 16
Organizational Partners: Outreach and Admissions and Career Technical Services | 32
Community Partners, Other than Employers | 32
Employer Partners | 32
Regional Office Project Managers | 16
Students | 64
Center Director Survey | 375
TOTAL | 927

Comments submitted in response to this comment request will be summarized and/or included in the request for the Office of Management and Budget approval of the information collection request; they will also become a matter of public record.

Dated: Signed in Washington, DC, on this 11th day of January, 2012.
Jane Oates,
Assistant Secretary for Employment and Training.

[FR Doc. 2012-795 Filed 1-17-12; 8:45 am]

BILLING CODE 4510-FT-P